DEPARTMENT OF AGRICULTURE

Grain Inspection, Packers and Stockyards Administration

Opportunity for Designation in the Montgomery, AL; Saginaw, TX; Essex, IL; Savage, MN; and Olympia, WA Areas; Request for Comments on the Official Agencies Serving These Areas

AGENCY: Grain Inspection, Packers and Stockyards Administration (GIPSA), USDA.

ACTION: Notice.

SUMMARY: The designations of the official agencies listed below will end on December 31, 2014. We are asking persons or governmental agencies interested in providing official services in the areas currently served by these agencies to submit an application for designation. In addition, we are asking for comments on the quality of services provided by the following designated agencies: Alabama Department of Agriculture and Industries (Alabama); Gulf Country Grain Inspection Service, Inc. (Gulf Country); Kankakee Grain Inspection, Inc. (Kankakee); State Grain Inspection, Inc. (State); and Washington Department of Agriculture (Washington).

DATE: Applications and comments must be received by September 25, 2014.

ADDRESSES: Submit applications and comments concerning this Notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Submit Comments Using the Internet: Go to Regulations.gov (http://www.regulations.gov). Instructions for submitting and reading comments are detailed on the site.

• Mail, Courier or Hand Delivery: Eric J. Jabs, Deputy Director, USDA, GIPSA, FGIS, QACD, 10383 North Ambassador Drive, Kansas City, MO 64153.

• Fax: Eric J. Jabs, 816-872-1257.

• Email: Eric.J.Jabs@usda.gov.

Read Applications and Comments: All applications and comments will be available for public inspection at the office above during regular business hours (7 CFR 1.27(c)).

FOR FURTHER INFORMATION CONTACT: Eric J. Jabs, 816-659-8408 or Eric.J.Jabs@usda.gov.

SUPPLEMENTARY INFORMATION: Section 79(f) of the United States Grain Standards Act (USGSA) authorizes the Secretary to designate a qualified applicant to provide official services in a specified area after determining that the applicant is better able than any other applicant to provide such official services (7 U.S.C. 79(f)). Under section 79(g) of the USGSA, designations of official agencies are effective for three years unless terminated by the Secretary, but may be renewed according to the criteria and procedures prescribed in section 79(f) of the USGSA.

Areas Open for Designation:

Alabama

Pursuant to Section 79(f)(2) of the United States Grain Standards Act, the following geographic area, in the State of Alabama, is assigned to this official agency:

In Alabama

The entire State, except those export port locations within the State, which are served by GIPSA.

Gulf Country

Pursuant to Section 79(f)(2) of the United States Grain Standards Act, the following geographic area, in the State of Texas, is assigned to this official agency:

In Texas

Bounded on the north by the northern Young, Jack, Montague, Cooke, Grayson, Fannin, Lamar, Red River, Morris, and Marion County Lines.

Bounded on the east by the eastern Red River, Morris, Marion, Harrison, Panola, Shelby, Sabine, Newton, Orange, Jefferson, Chambers, Galveston, Brazoria, Matagorda, Jackson, Calhoun, Refugio, Aransas, San Patricio, Nueces, Kleberg, Kennedy, Willacy, and Cameron County Lines.

Bounded on the south by the Southern Texas State Line.

Bounded on the west by the western Cameron, Hidalgo, Starr, Zapata, Duval, McMullen, Atascosa, Bexar, Comal, Blanco, Burnet, Lampasas, Mills, Comanche, Eastland, Stephens, Young, and Montague County Lines.

Excludes export port locations served by GIPSA's League City Field Office, Beaumont Sub-office, and Corpus Christi Duty Point.

Kankakee

Pursuant to Section 79(f)(2) of the United States Grain Standards Act, the following geographic area, in the State of Illinois, is assigned to this official agency:

In Illinois

Bounded on the North by the northern Bureau County line; the northern LaSalle and Grundy County lines; the northern Will County line east-southeast to Interstate 57;

Bounded on the East by Interstate 57 south to U.S. Route 52; U.S. Route 52 south to the Kankakee County line;

Bounded on the South by the southern Kankakee and Grundy County lines; the southern LaSalle County line west to State Route 17; State Route 17 west to U.S. Route 51; U.S. Route 51 north to State Route 18; State Route 18 west to State Route 26; State Route 26 south to State Route 116; State Route 116 south to Interstate 74; Interstate 74 west to the western Peoria County line;

Bounded on the West by the western Peoria and Stark County lines; the northern Stark County line east to State Route 40; State Route 40 north to the Bureau County line.

State

Pursuant to Section 79(f)(2) of the United States Grain Standards Act, the following geographic area, in the State of Minnesota, is assigned to this official agency:

In Minnesota

Hennepin, Ramsey, Washington, Carver, Scott, Dakota, Brown, Nicollet, Le Sueur, Rice, Goodhue, Watonwan, Blue Earth, Waseca, Steele, Dodge, McLeod, and Sibley Counties.

Washington

Pursuant to Section 79(f)(2) of the United States Grain Standards Act, the following geographic area, in the States of Idaho, Oregon, and Washington, are assigned to this official agency:

In Idaho

The northern half of the State of Idaho down to the northern boundaries of Adams, Valley, and Lemhi Counties.

In Oregon

The entire State of Oregon, except those export port locations within the State that are served by GIPSA.

In Washington

The entire State of Washington, except those export port locations within the State that are served by GIPSA.

Opportunity for Designation

Interested persons or governmental agencies may apply for designation to provide official services in the geographic areas specified above under the provisions of section 79(f) of the USGSA and 7 CFR 800.196. Designation in the specified geographic areas is for the period beginning January 1, 2015 and ending December 31, 2017. To apply for designation or for more information, contact Eric J. Jabs at the address listed above or visit GIPSA's Web site at http://www.gipsa.usda.gov.

Request for Comments

We are publishing this Notice to provide interested persons the opportunity to comment on the quality of services provided by the Alabama, Gulf Country, Kankakee, State, and Washington official agencies. In the designation process, we are particularly interested in receiving comments citing reasons and pertinent data supporting or objecting to the designation of the applicants. Submit all comments to Eric J. Jabs at the above address or at http://www.regulations.gov.

We consider applications, comments, and other available information when determining which applicants will be designated.

Authority: 7 U.S.C. 71-87k.

Larry Mitchell,
Administrator, Grain Inspection, Packers and Stockyards Administration.

[FR Doc. 2014-20226 Filed 8-25-14; 8:45 am]

BILLING CODE 3410-KD-P